DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by May 22, 2000.

FOR FURTHER INFORMATION CONTACT: F. Lamont Heppe, Jr., Program Development & Regulatory Analysis, Rural Utilities Service, USDA, 1400 Independence Ave., SW., STOP 1522, Room 4034 South Building, Washington, DC 20250-1522. Telephone: (202) 720-0736. FAX: (202) 720-4120.

SUPPLEMENTARY INFORMATION:

Title: State Telecommunications Modernization Plan.

OMB Control Number: 0572-0104.

Type of Request: Reinstatement of a previously approved collection with change.

Abstract: This information collection requirement stems from passage of the Rural Electrification Loan Restructuring Act (RELRA, P.L. 103-129) on November 1, 1993, which amended the Rural Electrification Act of 1936, 7 U.S.C. 901 et seq. (the RE Act). RELRA requires that a State Telecommunications Modernization Plan (STMP), covering at a minimum the Rural Utilities Service (RUS) borrowers in the state, be established in a state or RUS cannot make hardship or concurrent cost-of-money and Rural Telephone Bank (RTB) loans for construction in that state. It is the policy of RUS that every State have a Modernization Plan which provides for the improvement of the State's telecommunications network. A proposed Modernization Plan must be submitted to RUS for approval. RUS will approve a proposed Modernization Plan if it conforms to the provisions of 7 CFR part 1751, subpart B.

Estimate of Burden: Public reporting burden for this collection of information is estimated to average 350 hours per response.

Respondents: Not-for-profit institutions and other businesses.

Estimated Number of Respondents: 1.

Estimated Number of Responses per Respondent: 1.

Estimate Total Annual Burden on Respondents: 350 hours.

Copies of this information collection can be obtained from Bob Turner, Program Development and Regulatory Analysis, Rural Utilities Service at (202) 720-0696.

Comments are invited on (a) Whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology. Comments may be sent to F. Lamont Heppe, Jr., Director, Program Development and Regulatory Analysis, Rural Utilities Service, U.S. Department of Agriculture, 1400 Independence Ave. SW, Stop 1522, Room 4034 South Building, Washington, DC 20250-1522.

All responses to this notice will be summarized and included in the request for OMB approval. All comments will also become a matter of public record.

Dated: March 14, 2000.
Christopher A. McLean,
Acting Administrator, Rural Utilities Service.

[FR Doc. 00-7087 Filed 3-21-00; 8:45 am]

BILLING CODE 3410-15-P